DEPARTMENT OF COMMERCE

National Technical Information Service

National Technical Information Service Advisory Board

AGENCY: National Technical Information Service, Commerce.

ACTION: Notice of open meeting.

SUMMARY: This notice announces the next meeting of the National Technical Information Service Advisory Board (the Advisory Board), which advises the Secretary of Commerce and the Director of the National Technical Information Service (NTIS) on policies and operations of the Service.

DATES: The Advisory Board will meet on Thursday, October 30, 2008 from 10 a.m. to approximately 5 p.m. and again on Friday, October 31, 2008 from 9 a.m. to approximately 1 p.m.

ADDRESSES: The Advisory Board meeting will be held in Room 2029 of the Sills Building at 5285 Port Royal Road, Springfield, Virginia 22161. Please note admittance instructions under the SUPPLEMENTARY INFORMATION section of this notice.

FOR FURTHER INFORMATION CONTACT: Mr. Steven D. Needle, (703) 605-6404, sneedle@ntis.gov or Ms. Jill Johnson (703) 605-6401, jjohnson@ntis.gov. These are not toll-free telephone numbers.

SUPPLEMENTARY INFORMATION: The NTIS Advisory Board is established by Section 3704b(c) of Title 15 of the United States Code. The charter has been filed in accordance with the requirements of the Federal Advisory Committee Act, as amended (5 U.S.C. App.).

The October 30 morning session will focus on a review of NTIS' performance in Fiscal Year 2008, its lines of business and its core competencies. The afternoon session is expected to focus on new strategic directions for Fiscal Year 2009, including issues pertaining to the identification of new markets and new ways to enhance NTIS' utility to customers. The October 31 session will focus primarily on Board business but may continue the previous day's discussions. A final agenda and summary of the proceedings will be posted at the NTIS Web site as soon as they are available (http://www.ntis.gov/about/advisorybd.asp).

The Sills Building is a secure facility. Accordingly, persons wishing to attend should call the contacts identified above to arrange for admission. Approximately one-half hour will be reserved for public comments during the afternoon of the October 30 session. The amount of time per speaker will be determined by the number of requests received. Questions from the public will not be considered during this period. Any person who wishes to submit a written statement for the Board's consideration should mail or e-mail it to the contacts named above not later than October 17, 2008.

Dated: September 18, 2008.
Ellen Herbst,
Director.

[FR Doc. E8-22706 Filed 9-25-08; 8:45 am]

BILLING CODE 3510-04-P